DEPARTMENT OF THE INTERIOR

Bureau of Safety and Environmental Enforcement

Ocean Energy Safety Advisory Committee (OESC); Notice of Meeting

AGENCY: Bureau of Safety and Environmental Enforcement (BSEE), Interior.

ACTION: Notice of meeting.

SUMMARY: OESC will meet at the Doubletree by Hilton Houston Intercontinental Airport Hotel in Houston, Texas.

DATES: Thursday, April 26, 2012, from 8 a.m. to 5:30 p.m.

ADDRESSES: Doubletree by Hilton Houston Intercontinental Airport Hotel, 15747 JFK Boulevard, Houston, Texas 77032.

FOR FURTHER INFORMATION CONTACT: Mr. Joseph R. Levine at the Bureau of Safety and Environmental Enforcement, 381 Elden Street, Herndon, Virginia 20170-4187. He can be reached by telephone at (703) 787-1033 or by electronic mail at joseph.levine@bsee.gov.

SUPPLEMENTARY INFORMATION: OESC consists of representatives from industry, Federal Government agencies, non-governmental organizations, and the academic community. It provides policy advice to the Secretary of the Interior through the Director of BSEE on matters relating to ocean energy safety, including, but not limited to, drilling and workplace safety, well intervention and containment, and oil spill response.

The agenda for Thursday, April 26, will address safety management systems and safety culture and the OESC Subcommittees' activities to date on oil spill prevention, spill containment, spill response and safety management systems. Interim recommendations will be presented to the OESC from its four subcommittees for consideration and action.

The meeting is open to the public. Approximately 100 visitors can be accommodated on a first-come-first-served basis. Members of the public will have the opportunity to comment on the activities of OESC and related topics on a first-come-first-served basis during the time allotted for public comment and may submit written comments to the OESC during the meeting or by email to the Committee at OESC@bsee.gov.

Minutes of the Ocean Energy Safety Advisory Committee meeting will be available for public inspection on the Committee's Web site at: http://www.bsee.gov/About-BSEE/Public-Engagement/OESC/Index.aspx.

Authority: Federal Advisory Committee Act, Pub. L. 92-463, 5 U.S.C. Appendix 1, and the Office of Management and Budget's Circular No. A-63, Revised.

Dated: March 30, 2012.
James A. Watson,
Director, Bureau of Safety and Environmental Enforcement.

[FR Doc. 2012-8180 Filed 4-4-12; 8:45 am]

BILLING CODE 4310-MR-P